DEPARTMENT OF THE INTERIOR

Fish and Wildlife Service

[FWS-R5-FHC-2008-N00165] [51320-1334-0000 L4]

Proposed Information Collection; OMB Control Number 1018-0127; Horseshoe Crab Tagging Program

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on December 31, 2008. We may not conduct or sponsor and a person is not required to respond to a collection of information unless it displays a currently valid OMB control number.

DATES: You must submit comments on or before August 25, 2008.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this ICR, contact Hope Grey by mail, fax, or e-mail (see ADDRESSES) or by telephone at (703) 358-2482.

SUPPLEMENTARY INFORMATION:

I. Abstract

Horseshoe crabs are among the world's oldest creatures. People have used this evolutionary survivor for centuries. Horseshoe crabs play an important role in the ecology of the coastal ecosystem, and, over time, have provided opportunities for commercial, recreational, medical, scientific, and educational uses.

In 1998, the Atlantic States Marine Fisheries Commission (ASMFC), a management organization with representatives from each State on the Atlantic Coast, developed a horseshoe crab management plan. The ASMFC plan and its subsequent addenda established mandatory State-by-State harvest quotas, and created the 1,500 square mile Carl N. Shuster, Jr. Horseshoe Crab Sanctuary off the mouth of Delaware Bay. Fishermen use active management and innovative techniques to conserve bait that have successfully reduced commercial horseshoe crab landings in recent years. Conch and eel fishermen have been using bait bags in their traps so they can use a portion of one crab per trap, compared to using a whole crab in each trap. The bait bags have reduced the demand for bait by 50 to 75 percent.

Although restrictive measures have been taken in recent years, populations are not showing immediate increases. Because horseshoe crabs do not breed until they reach 9 years or older, it may take some time before the population measurably increases. A Horseshoe Crab Cooperative Tagging Program was established to monitor this species. Cooperating Federal and State agencies, universities, and biomedical companies tag and release horseshoe crabs. Agencies that tag and release the crabs complete the Horseshoe Crab Tagging Release Form (FWS Form 3-2311) and provide the Service with:

(1) Organization name.

(2) Contact person name.

(3) Tag number.

(4) Sex of crab.

(5) Prosomal width.

(6) Capture site, latitude, longitude, waterbody, State, and date.

Through public participants who recover tagged crabs, we collect the following information using FWS Form 3-2310 (Horseshoe Crab Recapture Report):

(1) Tag number.

(2) Whether or not tag was removed.

(3) Whether or not the tag was circular or square.

(4) Condition of crab.

(5) Date captured/found.

(6) Crab fate.

(7) Finder type.

(8) Capture method.

(9) Capture location.

(10) Reporter information.

(11) Comments.

If the public participant who reports the tagged crab requests information, we send data pertaining to the tagging program, and tag and release information on the horseshoe crab he/she found or captured. The information that we collect is stored at the Maryland Fishery Resources Office, Fish and Wildlife Service, and used to evaluate migratory patterns, survival, and abundance of horseshoe crabs.

II. Data

OMB Control Number: 1018-0127.

Title: Horseshoe Crab Tagging Program.

Service Form Number(s): FWS Forms 3-2310 and 3-2311.

Type of Request: Extension of currently approved collection.

Affected Public: Tagging agencies include Federal and State agencies, universities, and biomedical companies. Members of the general public provide recapture information.

Respondent's Obligation: Voluntary.

Frequency of Collection: On occasion. When horseshoe crabs are tagged and when horseshoe crabs are found or captured.

Activity | Number of annual respondents | Number of annual responses | Completion time per response | Annual burden hours
FWS Form 3-2310 | 500 | 1,500 | 10 minutes | 250
FWS Form 3-2311 | 10 | 10 | 73 hours* | 730
Totals | 510 | 1,510 |  | 980

*Average time required per response is dependent on the number of tags applied by an agency in 1 year. Agencies tag between 25 and 9,000 horseshoe crabs annually, taking between 2 to 5 minutes per crab to tag. Each agency determines the number of tags it will apply.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: May 29, 2008
Hope Grey,
Information Collection Clearance Officer, Fish and Wildlife Service.

[FR Doc. E8-14228 Filed 6-23-08; 8:45 am]

BILLING CODE 4310-55-S